ELECTION ASSISTANCE COMMISSION

Sunshine Act; Notice of Meeting

AGENCY: United States Election Assistance Commission.

ACTION: Notice of public meeting.

DATE and time: Thursday, June 15, 2006, 10 a.m.-12 Noon.

place: U.S. Election Assistance Commission, 1225 New York Ave., NW., Suite 1100, Washington, DC 20005. (Metro Stop: Metro Center).

agenda: The Commission will receive presentations on developing management guidelines for implementing new voting systems and administering elections. The Commission will receive reports on other administrative matters.

This meeting will be open to the public.

FOR FURTHER INFORMATION CONTACT: Bryan Whitener, Telephone: (202) 566-3100.

Thomas R. Wilkey,
Executive Director, U.S. Election Assistance Commission.

[FR Doc. 06-5181 Filed 6-2-06; 12:58 pm]

BILLING CODE 6820-KF-M